DEPARTMENT OF TRANSPORTATION

Federal Aviation Administration

14 CFR Part 39

[Docket No. FAA-2022-0808; Project Identifier MCAI-2022-00100-R; Amendment 39-22232; AD 2022-23-05]

RIN 2120-AA64

Airworthiness Directives; Airbus Helicopters

AGENCY: Federal Aviation Administration (FAA), DOT.

ACTION: Final rule.

SUMMARY: The FAA is adopting a new airworthiness directive (AD) for certain Airbus Helicopters Model AS332C, AS332C1, AS332L, AS332L1, and AS332L2 helicopters. This AD was prompted by reports of a crack in the front upper hoist attachment fitting. This AD requires inspecting each affected hoist attachment fitting (fitting) and depending on the results, removing any cracked fitting from service and reporting information. This AD also prohibits installing an affected fitting unless the required actions are accomplished, as specified in a European Union Aviation Safety Agency (EASA) AD, which is incorporated by reference. The FAA is issuing this AD to address the unsafe condition on these products.

DATES: This AD is effective January 3, 2023.

The Director of the Federal Register approved the incorporation by reference of a certain publication listed in this AD as of January 3, 2023

AD Docket: You may examine the AD docket at regulations.gov under Docket No. FAA-2022-0808; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For service information identified in this final rule, contact EASA, Konrad-Adenauer-Ufer 3, 50668 Cologne, Germany; telephone +49 221 8999 000; email ADs@easa.europa.eu; internet easa.europa.eu. You may find the EASA material on the EASA website at ad.easa.europa.eu.

• You may view this service information at the FAA, Office of the Regional Counsel, Southwest Region, 10101 Hillwood Pkwy., Room 6N-321, Fort Worth, TX 76177. For information on the availability of this material at the FAA, call (817) 222-5110. It is also available at regulations.gov under Docket No. FAA-2022-0808.

Other Related Service Information: For Airbus Helicopters service information identified in this final rule, contact Airbus Helicopters, 2701 North Forum Drive, Grand Prairie, TX 75052, United States; phone: (972) 641-0000 or (800) 232-0323; fax (972) 641-3775; email: customersupport.helicopters@airbus.com; website: airbus.com/helicopters/services/technical-support.html. This service information is also available at the contact information under Material Incorporated by Reference above.

FOR FURTHER INFORMATION CONTACT: Kristin Bradley, COS Program Manager, COS Program Management Section, Operational Safety Branch, FAA, 10101 Hillwood Pkwy., Fort Worth, TX 76177; telephone: (817) 222-5110; email: kristin.bradley@faa.gov.

SUPPLEMENTARY INFORMATION:

Background

EASA, which is the Technical Agent for the Member States of the European Union, has issued EASA Emergency AD 2022-0016-E, dated January 26, 2022 (EASA AD 2022-0016-E), to correct an unsafe condition for Airbus Helicopters (AH), formerly Eurocopter, Eurocopter France, Aerospatiale, Model AS 332 C, AS 332 C1, AS 332 L, AS 332 L1, and AS 332 L2 helicopters, equipped with front upper fitting manufacturer part number (MP/N) 332A87-1116-21, rear upper fitting MP/N 332A87-1117-20, or lower fitting MP/N 332A87-1176-20.

The FAA issued a notice of proposed rulemaking (NPRM) to amend 14 CFR part 39 by adding an AD that would apply to certain Airbus Helicopters Model AS332C, AS332C1, AS332L, AS332L1, and AS332L2 helicopters, with a front upper fitting MP/N 332A87-1116-21, rear upper fitting MP/N 332A87-1117-20, or lower fitting MP/N 332A87-1176-20, installed. The NPRM published in the Federal Register on July 6, 2022 (87 FR 40164). The NPRM was prompted by an occurrence of a front upper fitting crack reported on a helicopter equipped with a double hoist design, installed per a supplemental type certificate (STC). The STC has not been validated by the FAA; however, other hoists may have design similarities with the affected fitting installed. In the NPRM, the FAA proposed to require inspecting each affected fitting and depending on the results, removing any cracked fitting from service. The NPRM also proposed to require reporting results of the inspection to the manufacturer, as specified in EASA AD 2022-0016-E.

The FAA is issuing this AD to address cracking of the front upper fitting, which could affect the structural integrity of a fitting, possibly leading to an in-flight detachment of the hoist support, and consequent damage to the helicopter or injury to a person being lifted. See EASA AD 2022-0016-E for additional background information.

Discussion of Final Airworthiness Directive

Comments

The FAA received a comment from Airbus Helicopters. The following presents the comment received on the NPRM and the FAA's response to the comment.

Request To Require Returning Parts

Airbus Helicopter requested the FAA change the AD to require returning a cracked fitting to Airbus Helicopters for further engineering investigation as required by EASA AD 2022-0016-E.

The FAA disagrees with this request because the FAA does not have the authority to direct operators to return defective components to the manufacturer. However, operators may choose to return a cracked fitting to Airbus Helicopters as this AD does not prohibit an operator from returning a part to a manufacturer. Additionally, this AD requires reporting inspection results to Airbus Helicopters within a specific compliance time. Airbus Helicopters will have direct knowledge of any non-compliances and can work with operators to return the parts at their discretion.

Conclusion

These helicopters have been approved by EASA and are approved for operation in the United States. Pursuant to the FAA's bilateral agreement with the European Union, EASA has notified the FAA of the unsafe condition described in its AD. The FAA reviewed the relevant data, considered the comment received, and determined that air safety requires adopting this AD as proposed. Accordingly, the FAA is issuing this AD to address the unsafe condition on these helicopters. Except for minor editorial changes, this AD is adopted as proposed in the NPRM.

Related Service Information Under 1 CFR Part 51

EASA AD 2022-0016-E requires a one-time inspection of the front upper fitting MP/N 332A87-1116-21, rear upper fitting MP/N 332A87-1117-20, and lower fitting MP/N 332A87-1176-20 for a crack. If there is a crack, EASA AD 2022-0016-E requires replacing the affected fitting. EASA AD 2022-0016-E also prohibits installing an affected fitting on any helicopter unless it passes the required inspection.

This material is reasonably available because the interested parties have access to it through their normal course of business or by the means identified in ADDRESSES.

Other Related Service Information

The FAA reviewed Airbus Helicopters Emergency Alert Service Bulletin 25.03.95, Revision 0, dated January 25, 2022. This service information specifies procedures for inspecting and replacing an affected fitting. This service information also specifies reporting certain information to Airbus Helicopters, and for a cracked fitting, returning the fitting to Airbus Helicopters.

Differences Between This AD and the EASA AD

EASA AD 2022-0016-E requires a compliance time of before next hoist operation or within 30 days, whichever occurs first after its effective date, whereas this AD requires a compliance time of within 30 hours time-in-service or within 30 days, whichever occurs first after the effective date of this AD. Where the service information referenced in EASA AD 2022-0016-E specifies to perform a dye penetrant inspection “if you are not sure,” this AD would not require that action. Where EASA AD 2022-0016-E requires returning a fitting that is required to be removed as a result of the inspection, this AD does not.

Interim Action

The FAA considers this AD an interim action. If final action is later identified, the FAA might consider further rulemaking then.

Costs of Compliance

The FAA estimates that this AD, affects 7 helicopters of U.S. Registry. Labor rates are estimated at $85 per work-hour. Based on these numbers, the FAA estimates the following costs to comply with this AD.

Inspecting all hoist attachment fittings takes about 0.5 work-hour for an estimated cost of $42.50 per helicopter and $298 for the U.S. fleet.

Replacing the front upper fitting takes about 4 hours and parts cost $834 for an estimated cost of $1,174 per front upper fitting.

Replacing the rear upper fitting takes about 4 hours and parts cost $1,040 for an estimated cost of $1,380 per rear upper fitting.

Replacing the lower fitting takes about 4 hours and parts cost $1,874 for an estimated cost of $2,214 per lower fitting.

The FAA estimates that it takes about 1 hour per product to comply with the reporting requirement in this AD. The average labor rate is $85 per hour. Based on these figures, the FAA estimates the cost of reporting the inspection results on U.S. operators to be $595 or $85 per product.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-23-05 Airbus Helicopters: Amendment 39-22232; Docket No. FAA-2022-0808; Project Identifier MCAI-2022-00100-R.

(a) Effective Date

This airworthiness directive (AD) is effective January 3, 2023.

(b) Affected ADs

None.

(c) Applicability

This AD applies to Airbus Helicopters Model AS332C, AS332C1, AS332L, AS332L1, and AS332L2 helicopters, certificated in any category, with a front upper hoist attachment fitting manufacturer part number (MP/N) 332A87-1116-21, rear upper hoist attachment fitting MP/N 332A87-1117-20, or lower hoist attachment fitting MP/N 332A87-1176-20, installed.

(d) Subject

Joint Aircraft Service Component (JASC) Code: 2500, Cabin Equipment/Furnishings.

(e) Unsafe Condition

This AD was prompted by reports of a crack on the front upper hoist attachment fitting. The FAA is issuing this AD to detect and address this unsafe condition, which could affect the structural integrity of a hoist attachment fitting, possibly leading to an in-flight detachment of the hoist support, and consequent damage to the helicopter or injury to a person being lifted.

(f) Compliance

Comply with this AD within the compliance times specified, unless already done.

(g) Requirements

Except as specified in paragraph (h) of this AD: Comply with all required actions and compliance times specified in, and in accordance with, European Union Aviation Safety Agency Emergency AD 2022-0016-E, dated January 26, 2022 (EASA AD 2022-0016-E).

(h) Exceptions to EASA AD 2022-0016-E

(1) Where EASA AD 2022-0016-E refers to its effective date, this AD requires using the effective date of this AD.

(2) Where EASA AD 2022-0016-E requires a compliance time of before next hoist operation or within 30 days, whichever occurs first after the effective date of EASA AD 2022-0016-E, this AD requires a compliance time of within 30 hours time-in-service or within 30 days, whichever occurs first after the effective date of this AD.

(3) Where the service information referenced in EASA AD 2022-0016-E specifies discarding parts, this AD requires removing those parts from service.

(4) Where EASA AD 2022-0016-E specifies replacing parts and the service information referenced in EASA AD 2022-0016-E specifies returning parts to the manufacturer, this AD requires removing those parts from service.

(5) Where the service information referenced in EASA AD 2022-0016-E specifies reporting inspection results to Airbus Helicopters immediately after each inspection, this AD requires reporting inspection results at the following compliance times:

(i) If there is not a crack, within 30 days after the inspection.

(ii) If there is a crack, before the next hoist operation.

(6) Where the service information referenced in EASA AD 2022-0016-E specifies to perform a dye penetrant inspection “if you are not sure,” this AD does not require a dye penetrant inspection.

(7) This AD does not mandate compliance with the “Remarks” section of EASA AD 2022-0016-E.

(i) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (j) of this AD. Information may be emailed to: 9-AVS-AIR-730-AMOC@faa.gov.

(2) Before using any approved AMOC, notify your appropriate principal inspector, or lacking a principal inspector, the manager of the local flight standards district office/certificate holding district office.

(j) Additional Information

For more information about this AD, contact Kristin Bradley, COS Program Manager, COS Program Management Section, Operational Safety Branch, FAA, 10101 Hillwood Pkwy., Fort Worth, TX 76177; telephone: (817) 222-5110; email: Kristin.Bradley@faa.gov.

(k) Material Incorporated by Reference

(1) The Director of the Federal Register approved the incorporation by reference of the service information listed in this paragraph under 5 U.S.C. 552(a) and 1 CFR part 51.

(2) You must use this service information as applicable to do the actions required by this AD, unless the AD specifies otherwise.

(i) European Union Aviation Safety Agency (EASA) Emergency AD 2022-0016-E, dated January 26, 2022.

(ii) [Reserved]

(3) For EASA Emergency AD 2022-0016-E, contact EASA, Konrad-Adenauer-Ufer 3, 50668 Cologne, Germany; telephone +49 221 8999 000; email ADs@easa.europa.eu; internet easa.europa.eu. You may find the EASA material on the EASA website at ad.easa.europa.eu.

(4) You may view this service information at FAA, Office of the Regional Counsel, Southwest Region, 10101 Hillwood Pkwy., Room 6N-321, Fort Worth, TX 76177. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on October 27, 2022.
Christina Underwood,
Acting Director, Compliance & Airworthiness Division, Aircraft Certification Service.

[FR Doc. 2022-26011 Filed 11-28-22; 8:45 am]

BILLING CODE 4910-13-P